DEPARTMENT OF EDUCATION

[Docket No.: ED-2024-SCC-0133]

Agency Information Collection Activities; Submission to the Office of Management and Budget for Review and Approval; Comment Request; National Assessment of Educational Progress (NAEP) 2026

AGENCY: Institute of Education Sciences, Department of Education (ED).

ACTION: Notice.

SUMMARY: In accordance with the Paperwork Reduction Act (PRA) of 1995, the Department is proposing a revision of a currently approved information collection request (ICR).

DATES: Interested persons are invited to submit comments on or before June 16, 2025.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Matthew Soldner, 202-453-7441.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: National Assessment of Educational Progress (NAEP) 2026.

OMB Control Number: 1850-0928.

Type of Review: A revision of a currently approved ICR.

Respondents/Affected Public: State, Local, and Tribal Governments.

Total Estimated Number of Annual Responses: 786,113.

Total Estimated Number of Annual Burden Hours: 449,560.

Abstract: The National Assessment of Educational Progress (NAEP), conducted by the National Center for Education Statistics (NCES), is a federally authorized survey of student achievement at grades 4, 8, and 12 in various subject areas, such as mathematics, reading, writing, science, U.S. history, civics, geography, economics, technology and engineering literacy (TEL), and the arts. The National Assessment of Educational Progress Authorization Act (Public Law 107-279 Title III, section 303) requires the assessment to collect data on specified student groups and characteristics, including information organized by race/ethnicity, gender, socio-economic status, disability, and limited English proficiency. It requires fair and accurate presentation of achievement data and permits the collection of background, noncognitive, or descriptive information that is related to academic achievement and aids in fair reporting of results. The intent of the law is to provide representative sample data on student achievement for the nation, the states, and subpopulations of students and to monitor progress over time. NAEP consists of two assessment programs: the NAEP long-term trend (LTT) assessment and the main NAEP assessment. The LTT assessments are given at the national level only and are administered to students at ages 9, 13, and 17 in a manner that is very different from that used for the main NAEP assessments. LTT reports mathematics and reading results that present trend data since the 1970s. In addition to the operational assessments, NAEP uses two other kinds of assessment activities: pilot assessments and special studies. Pilot assessments test items and procedures for future administrations of NAEP, while special studies (including the National Indian Education Study (NIES), the Middle School Transcript Study (MSTS), and the High School Transcript Study (HSTS)) are opportunities for NAEP to investigate particular aspects of the assessment without impacting the reporting of the NAEP results.

This request is to conduct NAEP in 2026, specifically: (1) Main NAEP operational assessments will include for grades 4 and 8 (first administration of the new frameworks for reading and mathematics), grade 8 (civics and U.S. history); in Puerto Rico, grades 4 and 8 mathematics will be the only subject assessed and will include the new framework; (2) Pilot testing in grades 4, 8, and 12 (reading and mathematics); in Puerto Rico, grades 4 and 8 mathematics will be the only subject assessed; (3) Field Trial for grades 4, 8, and 12 in U.S. mainland and grades 4 and 8 in Puerto Rico; and (4) Special studies for grades 4, 8, and 12 for one or more focused topics such as Multi-stage Testing (MST) and accessibility.

At least one additional package will be submitted in 2025 in order to update all materials in time for the data collection in early 2026.

As of April 2025, NCES's assurances of confidentiality protections for NAEP 2026 have changed due to recent staffing changes at the Department of Education. NCES has removed the Foundations of Evidence-Based Policymaking Act of 2018, Title III, Part B, Confidential Information Protection (“CIPSEA”) as a confidentiality assurance. However, confidentiality assurances under the Education Sciences Reform Act of 2002 (ESRA) remain in effect.

Ross Santy,
Chief Data Officer, Office of Planning, Evaluation and Policy Development.

[FR Doc. 2025-08602 Filed 5-14-25; 8:45 am]

BILLING CODE 4000-01-P